NATIONAL CREDIT UNION ADMINISTRATION

Notice of Meeting; Sunshine Act

Time and Date: 10 a.m., Thursday, May 25, 2006.

Place: Board Room, 7th Floor, Room 7047, 1775 Duke Street, Alexandria, VA 22314-3248.

Status: Open.

Matters to be Considered: 1. Final Rule: Interpretive Ruling and Policy Statement (IRPS) 06-1, Section 701.1 of NCUA's Rules and Regulations, Amendments to NCUA's Chartering and Field of Membership Policies.

Recess: 11 a.m.

Time and Date: 11:15 a.m., Thursday, May 25, 2006.

Place: Board Room, 7th Floor, Room 70478, 1775 Duke Street, Alexandria, VA 22314-3428.

Status: Closed.

Matters to be Considered: 1. Two (2) Insurance Appeals. Closed pursuant to Exemption (6).

FOR FURTHER INFORMATION CONTACT: Mary Rupp, Secretary of the Board, Telephone: 703-518-6304.

Mary Rupp,
Secretary of the Board.

[FR Doc. 06-4793 Filed 5-18-06; 3:05 pm]

BILLING CODE 7535-01-M